DEPARTMENT OF TRANSPORTATION

Maritime Administration

U.S. Maritime Transportation System National Advisory Committee; Notice of Solicitation for Applications for Potential Members

AGENCY: Maritime Administration, Department of Transportation.

ACTION: Notice of solicitation for membership.

SUMMARY: Pursuant to authority delegated by the Secretary of Transportation (Secretary) to the Maritime Administrator (Administrator), the Maritime Administration (MARAD) requests nominations for membership on the U.S. Maritime Transportation System National Advisory Committee (MTSNAC).

DATES: Applications must be received on or before 5:00 p.m. ET on February 8, 2021. After that date, MARAD will continue to accept applications under this notice for a period of up to two years from the deadline to fill any vacancies that may arise. MARAD encourages nominations submitted any time before the deadline for consideration of upcoming vacancies.

ADDRESSES: Interested applicants may submit a completed application by sending an email to MTSNAC@dot.gov, subject line: MTSNAC Application (Named Individual). Please note that due to the Coronavirus Disease 2019 (COVID-19), MARAD will only accept electronic submissions. If that option does not work for you, please call the Designated Federal Officer for other options.

FOR FURTHER INFORMATION CONTACT: Amanda Rutherford, Designated Federal Officer, at MTSNAC@dot.gov or at (202) 595-4657. Please visit the MTSNAC website at https://www.maritime.dot.gov/outreach/maritime-transportation-system-mts/marine-transportation-system-national-advisory-committee.

SUPPLEMENTARY INFORMATION:

Committee Objective

The objective of the Maritime Transportation System National Advisory Committee (MTSNAC or Committee) is to identify and seek solutions to impediments hindering effective use of short sea transportation. The Committee will provide information, advice, and recommendations to the U.S. Secretary of Transportation (Secretary), through the Maritime Administrator (Administrator), on matters stated in the document Goals and Objectives for a Stronger Maritime Nation: A Report to Congress that are related to identifying and seeking solutions to impediments hindering effective use of short sea transportation. The Committee will not exercise program management responsibilities and will make no decisions directly affecting the programs on which it provides advice; decisions directly affecting implementation of maritime policy will remain with the Administrator.

The Administrator will use the advice, information, and recommendations generated by MTSNAC for an array of policy deliberations and for interagency discussions on meeting the Goals and Objectives for a Stronger Maritime Nation: A Report to Congress. The Secretary and Administrator may accept or reject a recommendation made by the MTSNAC and are not bound to pursue any recommendation from the MTSNAC. In the exercise of his or her discretion, the Secretary, Administrator, or his or her designee, may withdraw a task being considered by the MTSNAC at any time.

Description of Duties

During the term of the charter, MTSNAC shall undertake information gathering activities, develop technical advice, and present recommendations to the Administrator on short sea shipping matters including the following: (1) How to address impediments hindering effective use of short sea transportation, including the expansion of America's Marine Highways, as directed in 46 U.S.C. 55603; (2) How to strengthen U.S. Maritime capabilities essential to national security and economic prosperity; (3) Ways to ensure the availability of a U.S. maritime workforce that will support the sealift resource needs of the National Security Strategy; (4) Ways to support enhancement of U.S. port infrastructure and performance; and, (5) Ways to enable maritime industry innovation in information, automation, safety, environmental impact and other areas.

I. Who should be considered for nomination as MTSNAC members?

MARAD seeks nominations for immediate consideration to fill positions on the Committee for the upcoming charter term, and will continue to accept nominations under this notice on an on-going basis for two years for consideration to fill vacancies that may arise during the charter term. Member appointment terms run until September 17, 2022 and may be renewed, subject to charter renewal. Members will be selected in accordance with applicable Agency guidelines based upon their ability to advise the Administrator on marine transportation issues. Members will be selected to obtain membership balance of the marine transportation interests, including (1) active mariners; (2) vessel operators; (3) port authorities and terminal operators; (4) shippers or beneficial cargo owners; (5) the ship construction, repair and/or recycling industries; (6) relevant policy areas such as innovative financing, economic competitiveness, performance monitoring, safety, insurance, labor, and environment; (7) freight customers and providers; and (8) government bodies. All MTSNAC members serve at the pleasure of the Secretary of Transportation.

Registered lobbyists are not eligible to serve on Federal Advisory Committees in an individual capacity. See “Revised Guidance on Appointment of Lobbyists to Federal Advisory Committees, Boards and Commissions” (79 FR 47482, August 13, 2014). Registered lobbyists are “lobbyists,” as defined in Title 2 U.S.C. 1602, who are required by Title 2 U.S.C. 1603 to register with the Secretary of the Senate and the Clerk of the House of Representatives. The prohibition does not apply if registered lobbyists are specifically appointed to represent the interests of a nongovernmental entity, a recognizable group of persons or nongovernmental entities (an industry sector, labor unions, environmental groups, and similar groups) or state or local governments. Registered lobbyists are required to comply with provisions contained in the Lobbying Disclosure Act of 1995 (Pub. L. 110-81).

II. Do MTSNAC members receive compensation and/or per diem?

Committee members will receive no salary for participating in MTSNAC activities. While attending meetings or when otherwise engaged in Committee business, members may be reimbursed for travel and per diem expenses as permitted under applicable Federal travel regulations. Reimbursement is subject to funding availability.

III. What is the process for submitting applications/nominations?

Individuals can self-apply or be nominated by any individual or organization. To be considered for the MTSNAC, applicants/nominators should submit the following information:

(1) Contact Information for the nominee, consisting of:

a. Name

b. Title

c. Organization or Affiliation

d. Address

e. City, State, Zip

f. Telephone number

g. Email address

(2) Statement of interest limited to 250 words on why the nominee wants to serve on the MTSNAC and the unique perspectives and experiences the nominee brings to the Committee;

(3) Resume limited to 3 pages describing professional and academic expertise, experience, and knowledge, including any relevant experience serving on advisory committees, past and present;

(4) An affirmative statement that the nominee is not a federally registered lobbyist seeking to serve on the Committee in their individual capacity and the identity of the interests they intend to represent, if appointed as member of the Committee; and

(5) Optional letters of support.

Please do not send company, trade association, organization brochures, or any other promotional information. Materials submitted should total five pages or less and must be in a 12 font, formatted in Microsoft Word or PDF. Should more information be needed, MARAD staff will contact the nominee, obtain information from the nominee's past affiliations, or obtain information from publicly available sources. Those interested in applying to become a member of the Committee, may send a completed application package by email listed in the ADDRESSES section. Please note that, due to circumstances relating to the COVID-19 public health emergency, we will only accept electronic submissions. If electronic submission is problematic for you, please call the Designated Federal Officer for other options. Applications must be received by the deadline listed in the DATES section; however, candidates are encouraged to send application any time before the deadline.

IV. How will MARAD select MTSNAC members?

A selection team comprising representatives from MARAD will review the application packages. The selection team will make recommendations regarding membership to the Administrator based on the following criteria: (1) Professional or academic expertise, experience, and knowledge; (2) stakeholder representation; (3) availability and willingness to serve; (4) relevant experience in working in committees and advisory panels; and (5) the MTSNAC Charter and Membership Balance Plan. Nominations are open to all individuals without regard to race, color, religion, sex, national origin, age, mental or physical disability, marital status, or sexual orientation.

(Authority: 49 CFR part 1.93(a); 5 U.S.C. 552b; 41 CFR parts 102-3; 5 U.S.C. app. Sections 1-16)

* * * * *

By Order of the Maritime Administrator.
Dated: January 5, 2021.
T. Mitchell Hudson, Jr.,
Secretary, Maritime Administration.

[FR Doc. 2021-00121 Filed 1-7-21; 8:45 am]

BILLING CODE 4910-81-P